DEPARTMENT OF THE INTERIOR

Fish and Wildlife Service

[FWS-R9-IA-2008-N0192; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by September 12, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Carnegie Museum of Natural History, Pittsburgh, PA, PRT-187260

The applicant requests a permit to import a complete adult male skeleton of a New Zealand shore plover (Thinornis novaeseelandiae) from the National Museum of New Zealand, Wellington, New Zealand, for the purpose of enhancement of the species through scientific research.

Applicant: Delaware Museum of Natural History, Wilmington, DE, PRT-184718

The applicant requests a permit to export and re-import non-living museum specimens of endangered and threatened species of animals previously accessioned into the permittee's collection for scientific research. This notification covers activities conducted by the applicant over a five-year period.

Applicant: Villanova University, Villanova, PA, PRT-187106

The applicant requests a permit to import biological samples of the Saint Lucia white-breasted thrasher (Ramphocinclus brachyurus sanctaeluciae) from the Forestry Department, Government of Saint Lucia for the purpose of enhancement of the species through scientific research. This notification covers activities conducted by the applicant over a five-year period.

Applicant: University of California, Santa Cruz, Santa Cruz, CA, PRT-172134

The applicant requests a permit to import biological samples from lesser mouse lemurs (Microcebus murinus) and golden-brown mouse lemurs (Microcebus ravelobensis) collected in the wild in Madagascar, for the purpose of scientific research.

Applicant: Barbara L. Dicely, Occidental, CA, PRT-188631

The applicant requests a permit to import one male captive-born cheetah (Acinonyx jubatus) from the De Wildt Cheetah and Wildlife Conservation Centre, South Africa for the purpose of enhancement of the survival of the species.

Applicant: National Museum of Natural History, Smithsonian Institution, Washington, DC, PRT-188579

The applicant requests a permit to import 29 gorilla (Gorilla gorilla) skulls salvaged from various sources with the approval of the Government of the Republic of Cameroon for the purpose of scientific research.

Applicant: University of Idaho, Moscow, ID, PRT-066574

The applicant requests a renewal of their permit to import biological samples from European brown bear (Ursus arctos arctos) collected in the wild in Italy, for the purpose of scientific research. This notification covers activities to be conducted by the applicant over a five-year period.

Applicant: Erik D. Holum, Mitchell, SD, PRT-187827

The applicant requests a permit to import the sport-hunted trophy of one male bontebok (Damaliscus pygargus pygargus) culled from a captive herd maintained under the management program of the Republic of South Africa, for the purpose of enhancement of the survival of the species.

Applicant: Gay L. Scott, Nederland, TX, PRT-185773

The applicant requests a permit to import the sport-hunted trophy of one male bontebok (Damaliscus pygargus pygargus) culled from a captive herd maintained under the management program of the Republic of South Africa, for the purpose of enhancement of the survival of the species.

Applicant: William F. Scott, Nederland, TX, PRT-185771

The applicant requests a permit to import the sport-hunted trophy of one male bontebok (Damaliscus pygargus pygargus) culled from a captive herd maintained under the management program of the Republic of South Africa, for the purpose of enhancement of the survival of the species.

Dated: July 11, 2008.
Lisa J. Lierheimer,
Senior Permit Biologist, Branch of Permits, Division of Management Authority.

[FR Doc. E8-18706 Filed 8-12-08; 8:45 am]

BILLING CODE 4310-55-P